DEPARTMENT OF ENERGY

Federal Energy Regulatory Commission

[P-620-000]

Notice of Scoping Meetings, Site Visit and Soliciting Scoping Comments

September 4, 2003.

a. Type of Application: Subsequent License, Alternative Licensing Process.

b. Project No.: 620.

c. Applicant: NorQuest Seafoods, Inc. (NorQuest).

d. Name of Project: Chignik Hydroelectric Project.

e. Location: On Indian Creek, a tributary of Chignik Bay, in the Town of Chignik, Aleutian Islands, Alaska. The project occupies 38.89 acres of United States lands under the jurisdiction of the Bureau of Land Management.

f. Filed Pursuant to: Federal Power Act, 16 U.S.C. 791(a)—825(r).

g. Applicant Contact: Mr. Ron Soule, NorQuest Seafoods, Inc., 5245 Shilshole Avenue, NW, Seattle, WA 98107-4833, Phone: (206) 281-7022; Mr. Daniel Hertrich, Polarconsult Alaska, Inc., 1503 W 33rd Avenue, #310, Anchorage, AK 99503, Phone: (907) 258-2420.

h. FERC Contact: John M. Mudre, (202) 502-8902,john.mudre@ferc.gov.

i. Deadline for filing scoping comments: November 7, 2003.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

j. The existing project consists of a 16.5-foot-high timber dam at the outlet of Upper Lake (a.k.a. Indian Lake), creating a reservoir of approximately 8 acres at the maximum reservoir elevation of 431 feet (local datum), a channel spillway, a 7,700-foot-long, 8-inch-diameter wood-stave and steel pipeline, a 60-kilowatt generating unit inside the applicant's fish cannery, the generator leads, and appurtenant facilities. No new facilities or changes in operation are proposed.

k. Scoping Process: NorQuest is using the Federal Energy Regulatory Commission's (Commission) alternative licensing process (ALP). Under the ALP, NorQuest has prepared a draft Preliminary Draft Environmental Assessment (PDEA) and draft license application for the Chignik Project. These documents were filed with the Commission on August 4, 2003, provided to interested parties, and posted on the Chignik Relicensing Web site on the Internet at http://www.polarconsult.net/Chignik/index.html.

NorQuest expects to file the PDEA and the license application for the Chignik Hydroelectric Project with the Commission by October 6, 2003. Commission staff will then conduct its environmental review of the proposed project in support of the Commission's decision in this proceeding, utilizing, in part, information contained in the PDEA. Although staff's intent is to prepare an Environmental Assessment, (EA), there is the possibility that an Environmental Impact Statement (EIS) will be required. Nevertheless, these scoping meetings will satisfy the NEPA scoping requirements, irrespective of whether an EA or EIS is issued by the Commission.

The purpose of this notice is to inform you of the opportunity to participate in the upcoming scoping meetings and site visit identified below, and to solicit your scoping comments.

l. Scoping Meetings: NorQuest and the Commission staff will hold two scoping meetings, one in the daytime and one in the evening, to help us identify the scope of issues to be addressed in staff's EA.

The daytime scoping meeting will focus on resource agency concerns, while the evening scoping meeting is primarily for public input. All interested individuals, organizations, and agencies are invited to attend one or both of the meetings, and to assist the staff in identifying the environmental issues that should be analyzed in the EA. The times and locations of these meetings are as follows:

Evening Meeting

Monday, October 6, 2003, 7 to 9 pm, NorQuest Seafoods Cannery, Chignik, Alaska.

Daytime Meeting

Wednesday October 8, 2003, 1 to 4 pm, Polarconsult Alaska, Inc., 1503 West 33rd Avenue, Suite 310, Anchorage, Alaska.

To help focus discussions, interested parties should review the applicant's draft PDEA, which has been distributed to the parties on the mailing list. Copies of the draft PDEA also will be available at the scoping meetings. The draft PDEA is also available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/esubscribenow.htm to be notified via e-mail of new filings and issuances related to this or other pending projects. For assistance, contact FERC Online Support.

Objectives

At the scoping meetings, the staff will: (1) Summarize the environmental issues identified for analysis in the draft PDEA; (2) solicit from the meeting participants all available information, especially quantifiable data, on the resources at issue; (3) encourage statements from experts and the public on issues that should be analyzed in Commission staff's EA; (4) determine the resource issues to be addressed in the EA; and (5) identify those issues that require a detailed analysis, as well as those issues that do not require a detailed analysis.

Procedures

The daytime meeting will be recorded by a stenographer and will become part of the formal record of the Commission proceeding on the project. Although there will be no stenographer at the evening meeting, comments at that meeting will be noted and incorporated into the record. Written comments will be accepted at both meetings and can also be filed with the Secretary until November 7, 2003 (see “j.” above).

Individuals, organizations, and agencies with environmental expertise and concerns are encouraged to attend the meetings and to assist Commission staff in defining and clarifying the issues to be addressed in the EA.

m. Site Visit: NorQuest will conduct a walking tour of the project on Tuesday, October 7, 2003, beginning at 9 a.m. Participants should assemble at that time at NorQuest's cannery in Chignik. Participants should prepare for a walk of several miles and potentially inclement weather. Anyone having questions concerning the site visit should contact Dan Hertrich at the address or phone listed in “g.” above.

Magalie R. Salas,
Secretary.

[FR Doc. 03-23032 Filed 9-9-03; 8:45 am]

BILLING CODE 6717-01-P